DEPARTMENT OF TRANSPORTATION

Surface Transportation Board

[Docket No. FD 35435]

CaterParrott Railnet, L.L.C.—Sublease and Operation Exemption—Georgia & Florida Railway, L.L.C.

CaterParrott Railnet, L.L.C. (CPR), a noncarrier, has filed a verified notice of exemption under 49 CFR 1150.31 to sublease from Georgia & Florida Railway, L.L.C. (GRF) and operate approximately 43.2 miles of rail line between milepost 30.6, near Valdosta, and milepost 73.8, at Willacoochee, in Lowndes, Berrien, and Atkinson Counties, GA. (the Line). GRF currently leases the Line from the Georgia Department of Transportation, which owns the physical assets of the Line.

CPR certifies that its projected annual revenues as a result of this transaction will not result in CPR's becoming a Class II or Class I rail carrier and will not exceed $5 million.

According to CPR, the transaction is expected to be consummated on or after June 3, 2012, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than May 25, 2012 (at least 7 days before the exemption becomes effective).

An original and 10 copies of all pleadings, referring to Docket No. FD 35435, must be filed with the Surface Transportation Board, 395 E Street SW., Washington, DC 20423-0001. In addition, a copy of each pleading must be served on Karl Morell, Of Counsel, Ball Janik LLP, Suite 225, 655 Fifteenth Street NW., Washington, DC 20005.

Board decisions and notices are available on our Web site at www.stb.dot.gov.

Decided: May 15, 2012.
By the Board.
Rachel D. Campbell,
Director, Office of Proceedings.
Raina S. White,
Clearance Clerk.

[FR Doc. 2012-12081 Filed 5-17-12; 8:45 am]

BILLING CODE 4915-01-P